DEPARTMENT OF ENERGY

Federal Energy Regulatory Commission

Combined Notice of Filings #1

Take notice that the Commission received the following electric corporate filings:

Docket Numbers: EC11-60-004.

Applicants: Progress Energy, Inc., Duke Energy Corporation.

Description: Duke Energy submits a Motion to Supplement Compliance Filing and workpapers of Dr. Peter Fox-Penner.

Filed Date: 12/6/13.

Accession Number: 20131211-0023.

Comments Due: 5 p.m. ET 12/27/13.

Docket Numbers: EC14-36-000.

Applicants: Duke Energy Ohio, Inc.

Description: Application 203 of Duke Energy Ohio, Inc.

Filed Date: 12/10/13.

Accession Number: 20131210-5161.

Comments Due: 5 p.m. ET 12/31/13.

Take notice that the Commission received the following electric rate filings:

Docket Numbers: ER13-2157-002.

Applicants: Midcontinent Independent System Operator, Inc.

Description: 12-09-2013 SA 2289 H094 Compliance Filing to be effective 8/15/2013.

Filed Date: 12/9/13.

Accession Number: 20131209-5243.

Comments Due: 5 p.m. ET 12/30/13.

Docket Numbers: ER13-2337-002.

Applicants: Midcontinent Independent System Operator, Inc.

Description: Midcontinent Independent System Operator, Inc. submits 12-10-2013 SA 2017 G540/G548 Barton-ITC GIA Compliance Filing to be effective 11/6/2013.

Filed Date: 12/10/13.

Accession Number: 20131210-5011.

Comments Due: 5 p.m. ET 12/31/13.

Docket Numbers: ER14-126-001.

Applicants: Yellow Jacket Energy, LLC.

Description: Yellow Jacket Energy, LLC submits Clarification to Market-Based Rate Application to be effective 12/18/2013.

Filed Date: 12/10/13.

Accession Number: 20131210-5021.

Comments Due: 5 p.m. ET 12/31/13.

Docket Numbers: ER14-584-000.

Applicants: ISO New England Inc., New England Power Pool Participants Committee.

Description: LSCPR Cost Allocation Changes to be effective 12/31/9998.

Filed Date: 12/9/13.

Accession Number: 20131209-5209.

Comments Due: 5 p.m. ET 12/30/13.

Docket Numbers: ER14-585-000.

Applicants: PJM Interconnection, L.L.C.

Description: Notice of Cancellation of Original Service Agreement No. 2719; Queue No. V3-005 to be effective 1/6/2014.

Filed Date: 12/9/13.

Accession Number: 20131209-5239.

Comments Due: 5 p.m. ET 12/30/13.

Docket Numbers: ER14-586-000.

Applicants: Pacific Gas and Electric Company.

Description: Pacific Gas and Electric Company submits Amendments to the Port of Oakland IA—Service Agreement No. 4 under the TO to be effective 2/10/2014.

Filed Date: 12/9/13.

Accession Number: 20131209-5282.

Comments Due: 5 p.m. ET 12/30/13.

Docket Numbers: ER14-587-000.

Applicants: Avista Corporation.

Description: Avista Corporation submits Avista Corp OATT Order 784 Compliance Filing to be effective 12/27/2013.

Filed Date: 12/9/13.

Accession Number: 20131209-5284.

Comments Due: 5 p.m. ET 12/30/13.

Docket Numbers: ER14-588-000.

Applicants: Pacific Gas and Electric Company.

Description: Pacific Gas and Electric Company submits Port of Oakland Amendment to Remove the IA from the WDT to be effective 2/10/2014.

Filed Date: 12/9/13.

Accession Number: 20131209-5286.

Comments Due: 5 p.m. ET 12/30/13.

Docket Numbers: ER14-589-000.

Applicants: Idaho Power Company.

Description: Idaho Power Company submits BPA Conditional Firm Service Agreement to be effective 7/1/2016.

Filed Date: 12/10/13.

Accession Number: 20131210-5001.

Comments Due: 5 p.m. ET 12/31/13.

Description: Idaho Power Company submits BPA Conditional FirmService.

Docket Numbers: ER14-590-000.

Applicants: KAP Analytics, LLC.

Description: KAP Analytics, LLC submits Cancellation of MBR Tariff to be effective 12/11/2013.

Filed Date: 12/10/13.

Accession Number: 20131210-5010.

Comments Due: 5 p.m. ET 12/31/13.

Docket Numbers: ER14-591-000.

Applicants: Southwest Power Pool, Inc.

Description: Southwest Power Pool, Inc. submits 2635 Lincoln Electric System GIA to be effective 11/26/2013.

Filed Date: 12/10/13.

Accession Number: 20131210-5012.

Comments Due: 5 p.m. ET 12/31/13.

Take notice that the Commission received the following electric securities filings:

Docket Numbers: ES14-14-000.

Applicants: Kansas Gas and Electric Company.

Description: Application under Section 204 of Kansas Gas and Electric Company.

Filed Date: 12/10/13.

Accession Number: 20131210-5155.

Comments Due: 5 p.m. ET 12/31/13.

Docket Numbers: ES14-15-000.

Applicants: Kansas Gas and Electric Company.

Description: Application under Section 204 of Kansas Gas and Electric Company.

Filed Date: 12/10/13.

Accession Number: 20131210-5162.

Comments Due: 5 p.m. ET 12/31/13.

Docket Numbers: ES14-16-000.

Applicants: Westar Energy, Inc.

Description: Application under Section 204 of Westar Energy, Inc.

Filed Date: 12/10/13.

Accession Number: 20131210-5160.

Comments Due: 5 p.m. ET 12/31/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 11, 2013.
Nathaniel J. Davis, Sr.,
Deputy Secretary.

[FR Doc. 2013-30095 Filed 12-17-13; 8:45 am]

BILLING CODE 6717-01-P